DEPARTMENT OF VETERANS AFFAIRS

Voluntary Service National Advisory Committee, Notice of Meetings

The Department of Veterans Affairs (VA) gives notice under the Federal Advisory Committee Act, 5 U.S.C. App.2, that the Executive Committee of the VA Voluntary Service (VAVS) National Advisory Committee (NAC) will meet virtually on May 25, 2021. The meeting will begin at 12:00 p.m. Eastern Standard Time (EST) and end at 2:30 p.m. EST. You may call into the meeting by dialing 1-404-397-1596 and enter Access Code 199 780 2512. The meeting is open to the public.

The Committee, comprised of 53 major Veteran, civic, and service organizations, advises the Secretary, through the Under Secretary for Health, on the coordination and promotion of volunteer activities and strategic partnerships within VA health care facilities, in the community, and on matters related to volunteerism and charitable giving. The Executive Committee consists of 20 representatives from the NAC member organizations.

Agenda topics will include: NAC goals and objectives; review of minutes from the September 22, 2020, Executive Committee meeting; VAVS update on the Voluntary Service program's activities; Veterans Health Administration update, subcommittee reports; review of standard operating procedures; review of organization data; 2022 NAC annual meeting plans; and any new business.

No time will be allocated at this meeting for receiving oral presentations from the public. However, the public may submit written statements for the Committee's review to Dr. Sabrina C. Clark, Designated Federal Officer, Center for Development & Civic Engagement (formerly Voluntary Service (10BCOM1), Department of Veterans Affairs, 810 Vermont Avenue NW, Washington, DC 20420, or email at Sabrina.Clark@VA.gov. Any member of the public wishing to attend the meeting or seeking additional information should contact Dr. Clark at 202-461-7300.

Dated: March 16, 2021.
Jelessa M. Burney,
Federal Advisory Committee Management Officer.

[FR Doc. 2021-05788 Filed 3-18-21; 8:45 am]

BILLING CODE P